INTERNATIONAL TRADE COMMISSION

[USITC SE-05-026]

Government in the Sunshine Act Meeting Notice

Agency Holding the Meeting: United States International Trade Commission.

Time and Date: July 14, 2005 at 11 a.m.

Place: Room 101, 500 E Street SW., Washington, DC 20436, Telephone: (202) 205-2000.

Status: Open to the public.

Matters To Be Considered: 1. Agenda for future meetings: None.

2. Minutes.

3. Ratification List.

4. Inv. Nos. 731-TA-1092 and 1093 (Preliminary) (Diamond Sawblades and Parts Thereof from China and Korea)—briefing and vote. (The Commission is currently scheduled to transmit its determination to the Secretary of Commerce on or before July 18, 2005; Commissioners' opinions are currently scheduled to be transmitted to the Secretary of Commerce on or before July 25, 2005.)

5. Outstanding action jackets: None.

In accordance with Commission policy, subject matter listed above, not disposed of at the scheduled meeting, may be carried over to the agenda of the following meeting.

By order of the Commission.
Issued: June 30, 2005.
Marilyn R. Abbott,
Secretary to the Commission.

[FR Doc. 05-13391 Filed 7-1-05; 2:14 pm]

BILLING CODE 7020-02-P